DEPARTMENT OF STATE

[Public Notice 3936]

Notice of Meeting of the Cultural Property Advisory Committee

AGENCY: Department of State.

ACTION: Notice.

The Cultural Property Advisory Committee will meet on Monday and Tuesday, April 15 and 16, from approximately 9 a.m. to 5 p.m.; and on Wednesday, April 17, from approximately 9 a.m. to 2 p.m., at the Department of State, Annex 44, Room 840, 301 4th St., SW., Washington, DC, to review the proposals to extend: (1) the “Agreement between the Government of the United States of America and the Government of the Republic of Mali Concerning the Imposition of Import Restrictions on Archaeological Material from the Region of the Niger River Valley and the Bandiagara Escarpment,” which expires on September 23, 2002; and (2) the “Agreement between the Government of the United States of America and the Government of the Republic of Guatemala Concerning the Imposition of Import Restrictions on Archaeological Objects and Materials from the Pre Columbian Cultures of Guatemala,” which expires on October 3, 2002.

The Committee's responsibilities are carried out in accordance with provisions of the Convention on Cultural Property Implementation Act (19 U.S.C. 2601 et seq.). A copy of the Act, the subject agreements, and related information may be found at this web site: http://exchanges.state.gov/education/culprop.

During its meeting on Monday, April 15, the Committee will hold an open session, from 10 a.m. to 12 Noon to receive oral public comment on the proposals to extend these agreements. Persons wishing to attend this open session should notify the Cultural Property office at (202) 619-6612 by Tuesday, April 9, 2002, to arrange for admission, as seating is limited. Those who wish to make oral presentations should also request to be scheduled, and must submit a written text of the oral comments, by April 9, to allow time for distribution of them to Committee members prior to the meeting. Oral comments will be limited to five minutes each to allow time for questions from members of the Committee and must specifically address the proposals to extend the Agreements with particular attention to determinations that will be made under Section 303 (a)(1) of the Convention on Cultural Property Implementation Act, 19 U.S.C. 2602. The Committee also invites written comments and asks that they be submitted by April 9. All written materials, including the written texts of oral statements, should be faxed to (202) 260-4893.

Other portions of the meeting on April 15, 16 and 17 will be closed pursuant to 5 U.S.C. 552b(c)(9)(B) and 19 U.S.C. 2605(h).

Dated: February 26, 2002.
Patricia S. Harrison,
Assistant Secretary of State for Educational and Cultural Affairs, Department of State.

[FR Doc. 02-5203 Filed 3-4-02; 8:45 am]

BILLING CODE 4710-11-P